DEPARTMENT OF TRANSPORTATION

Federal Aviation Administration

Notice of Intent To Rule on Application to Impose and Use the Revenue From a Passenger Facility Charge (PFC) at Lawton-Ft. Sill Regional Airport, Lawton, OK

AGENCY: Federal Aviation Administration (FAA), DOT.

ACTION: Notice of intent to rule on application.

SUMMARY: The FAA proposes to rule and invites public comment on the application to impose and use the revenue from a PFC at Lawton-Ft. Sill Regional Airport under the provisions of the Aviation Safety and Capacity Expansion Act of 1990 (Title IX of the Omnibus Budget Reconciliation Act of 1990) (Pub. L. 101-508) and part 158 of the Federal Aviation Regulations (14 CFR part 158).

DATES: Comments must be received on or before June 21, 2004.

ADDRESSES: Comments on this application may be mailed or delivered in triplicate copies to the FAA at the following address: Mr. G. Thomas Wade, Federal Aviation Administration, Southwest Region, Airports Division, Planning and Programming Branch, ASW-611, Fort Worth, TX 76193-0610.

In addition, one copy of any comments submitted to the FAA must be mailed or delivered to Ms. Barbara McNally, Manager of Lawton-Ft. Sill Regional Airport at the following address: Airport Manager, PO Box 351, Lawton-Ft. Sill Regional Airport, Lawton, OK 73502.

Air carriers and foreign air carriers may submit copies of the written comments previously provided to the Airport under § 158.23 of part 158.

FOR FURTHER INFORMATION CONTACT: Mr. G. Thomas Wade, Federal Aviation Administration, Southwest Region, Airports Division, Planning and Programming Branch, ASW-611, Fort Worth, TX 76193-0610, (817) 222-5613.

The application may be reviewed in person at this same location.

SUPPLEMENTARY INFORMATION: The FAA proposes to rule and invites public comment on the application to impose and use the revenue from a PFC at Lawton-Ft. Sill Regional Airport under the provisions of the Aviation Safety and Capacity Expansion Act of 1990 (Title IX of the Omnibus Budget Reconciliation Act of 1990) (Public Law 101-508) and part 158 of the Federal Aviation Regulations (14 CFR part 158).

On May 11, 2004, the FAA determined the application to impose and use the revenue from a PFC submitted by the Airport was substantially complete within the requirements of § 158.25 of part 158. The FAA will approve or disapprove the application, in whole or in part, no later than September 4, 2004.

The following is a brief overview of the application.

Level of the proposed PFC: $4.50.

Proposed charge effective date: June 1, 2004.

Proposed charge expiration date: June 1, 2007.

Total estimated PFC revenue: $253,021.

PFC application number: 04-04-C-00-LAW.

Brief description of proposed project(s):

Projects To Impose and Use PFC's

1. Reconstruct and Realign Taxiway A, D, E and F.

2. Construct Engine Runup Apron and Aircraft Bypass at South End of Taxiway.

3. Rehabilitation of Taxiway Lighting.

4. Install REIL on Runway 35.

5. Reconstruct Taxiway F from Regional Air Hangar Apron Northerly to it terminus.

6. Reconstruct Apron Next to Terminal Air Hangar No. 1.

7. Construct Equipment Building.

Proposed class or classes of air carriers to be exempted from collecting PFC's: FAR Part 135 on demand air Taxi/Commercial Operator (ATCO) reporting on FAA Form 1800-31.

Any person may inspect the application in person at the FAA office listed above under FOR FURTHER INFORMATION CONTACT and at the FAA regional Airports office located at: Federal Aviation Administration, Southwest Region, Airports Division, Planning and Programming Branch, ASW-610, 2601 Meacham Blvd., Fort Worth, TX 76137-4298.

In addition, any person may, on request, inspect the application, notice and other documents relevant to the application in person at Lawton-Ft. Sill Regional Airport.

Issued in Fort Worth, Texas, on May 11, 2004.
Naomi L. Saunders,
Manager, Airports Division.

[FR Doc. 04-11396 Filed 5-19-04; 8:45 am]

BILLING CODE 4910-13-M